DEPARTMENT OF THE INTERIOR

National Park Service

[N6607; NPS-WASO-NAGPRA-NPS0041338; PPWOCRADN0-PCU00RP14.R50000]

Notice of Inventory Completion: U.S. Department of Defense, Air Force, Eglin Air Force Base, Eglin, FL

AGENCY: National Park Service, Interior.

ACTION: Notice.

SUMMARY: In accordance with the Native American Graves Protection and Repatriation Act (NAGPRA), the U.S. Department of Defense, Air Force, Eglin Air Force Base (AFB) has completed an inventory of human remains and associated funerary objects and has determined that there is a cultural affiliation between the human remains and associated funerary objects and Indian Tribes or Native Hawaiian organizations in this notice.

DATES: Repatriation of the human remains and associated funerary objects in this notice may occur on or after January 15, 2026.

ADDRESSES: Send written requests for repatriation of the human remains and associated funerary objects in this notice to Catherine Nolan, NAGPRA Specialist Eglin AFB, Argonne National Laboratory, 9700 South Cass Avenue, EVS-Building 240 6D22, Lemont, IL 60439, email catherine.nolan.3@us.af.mil.

SUPPLEMENTARY INFORMATION: This notice is published as part of the National Park Service's administrative responsibilities under NAGPRA. The determinations in this notice are the sole responsibility of the Eglin AFB, and additional information on the determinations in this notice, including the results of consultation, can be found in its inventory or related records. The National Park Service is not responsible for the determinations in this notice.

Abstract of Information Available

Human remains representing, at least, one individual have been identified. The 43 associated funerary objects are 33 ceramic sherds, five shell, four charred plant fragments, and one lithic flake. This ancestor and their funerary belongings were originally removed during a survey of Basin Bayou West (8WL13) by Lazarus and Burger in 1958, though they were only aware of the cultural items at the time. They were originally curated at the Fort Walton Indian Temple Mound Museum but were transferred in 1981 to the University of Florida-Florida Museum of Natural History (FLMNH). The FLMNH encountered the ancestor amongst faunal remains during a requested systematic osteological review of holdings as part of ongoing NAGPRA efforts. FLMNH notified Eglin AFB of the federal holding with subsequent transfer in August 2024. The site (8WL13) is recognized as primarily an Early Weeden Island burial mound.

Cultural Affiliation

Based on the information available and the results of consultation, cultural affiliation is clearly identified by the information available about the human remains and associated funerary objects described in this notice.

Determinations

The Eglin AFB has determined that:

• The human remains described in this notice represent the physical remains of one individual of Native American ancestry.

• The 43 objects described in this notice are reasonably believed to have been placed intentionally with or near individual human remains at the time of death or later as part of the death rite or ceremony.

• There is a connection between the human remains and associated funerary objects described in this notice and the Miccosukee Tribe of Indians; Poarch Band of Creek Indians; Seminole Tribe of Florida; The Muscogee (Creek) Nation; The Seminole Nation of Oklahoma; and the Thlopthlocco Tribal Town.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 15, 2026. If competing requests for repatriation are received, the Eglin AFB must determine the most appropriate requestor prior to repatriation. Requests for joint repatriation of the human remains and associated funerary objects are considered a single request and not competing requests. The Eglin AFB is responsible for sending a copy of this notice to the Indian Tribes and Native Hawaiian organizations identified in this notice and any other consulting parties.

Authority: Native American Graves Protection and Repatriation Act, 25 U.S.C. 3003, and the implementing regulations, 43 CFR 10.10.

Dated: November 17, 2025.
Melanie O'Brien,
Manager, National NAGPRA Program.

[FR Doc. 2025-22882 Filed 12-15-25; 8:45 am]

BILLING CODE 4312-52-P